DEPARTMENT OF THE INTERIOR

Bureau of Land Management

[CO-100-1060-PC; CO-110-1060-PC]

Notice of Public Hearings and the Intent to Remove Wild Horses on Public Lands in Colorado

AGENCY: Bureau of Land Management, Interior.

ACTION: Notice.

SUMMARY: The Wild, Free-Roaming Horse and Burro Act (Pub. L. 92-195), as amended, provides, among other things, that excess wild horses shall be removed from public lands.

The Bureau of Land Management plans to complete removal operations in August and September, 2001 in the West Douglas Herd Area and in the Sand Wash Herd Management Area. Dates are approximate and depend upon whether conditions and factors unforseen at this time.

The Bureau of Land Management plans to remove approximately 115 wild horses from the West Douglas Herd Area. The number of horses removed from the Sand Wash herd will be determined following establishment in late June, 2001 of a herd appropriate management level.

Pursuant to the requirements noted above, the BLM will conduct a public hearing on the use of helicopters in Colorado for gathering operations during the calendar year of 2001, and a public hearing addressing the removal of horses from the Oil Spring Mountain Wilderness Study Area, associated with the West Douglas Herd Area. A meeting will be held following the hearings to discuss the two planned gathers. The hearings are scheduled to begin at 7 MST on June 11th, 2001 at the White River Field Office of the BLM located at 73544 Highway 64 in Meeker, Colorado.

For additional information regarding the West Douglas Herd Area contact Jim Cagney, White River Field Office; 970-878-3601.

For additional information regarding the Sand Wash Herd management Area contact John Husband at the Little Snake Filed Office; 970-826-5000.

James A. Cagney,
White River Field Office Manager.

[FR Doc. 01-11376 Filed 5-4-01; 8:45 am]

BILLING CODE 4310-84-M